DEPARTMENT OF DEFENSE

Department of the Air Force

[Docket ID USAF-2013-0010]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended, were submitted on January 31, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2013.
Aaron Siegel,
Alternate OSD Federal Register Liaison Officer, Department of Defense.

F010 AFMC

System Name:

Deliberate and Crisis Action Planning and Execution Segment (DCAPES) Records (July 2, 2009, 74 FR 31721)

Changes:

* * * * *

Categories of individuals covered by the system:

Delete entry and replace with “Air Force Active Duty, Reserve, Air National Guard personnel, and government civilians. Records are maintained on individuals who are projected to depart or departed on Temporary Duty (TDY) in support of contingency, crisis or manning assist deployments.”

Categories of records in the system:

Delete entry and replace with “Name, Social Security Number (SSN), Department of Defense Identification Number (DoD ID Number), grade, home address, and geographical location.”

Authority for maintenance of the system:

Delete entry and replace with “10 U.S.C. 8013, Secretary of the Air Force; 10 U.S.C. 8032, The Air Staff, general duties; Air Force Policy Directive 10-4, Operations Planning Air & Space Expeditionary Force Presence Policy; Air Force Instruction 10-401, Air Force Operations Planning & Execution; Air Force Instruction 10-403, Deployment Planning & Execution; Air Force Instruction 36-3802, Personnel Readiness; and E.O. 9397 (SSN), as amended.”

Purpose(s):

Delete entry and replace with “Deliberate and Crisis Action Planning and Execution Segments (DCAPES) is the United States Air Forces system of records for managing Operational Plan requirements. The system integrates automated decision support applications and information exchange capabilities to provide the Air Force the means to plan, present, source, mobilize, deploy, account for, sustain, redeploy, and reconstitute forces. Records are collected to allow the Air Force to assign personnel to deployment requirements and create official contingency, exercise and deployment (CED) travel orders for Air Force personnel and to respond to authorized internal and external requests for data relating to Air Force CED travel.”

* * * * *

Storage:

Delete entry and replace with “Paper or electronic storage media.”

Retrievability:

Delete entry and replace with “By name, SSN and/or DoD ID Number.”

* * * * *

Retention and disposal:

Delete entry and replace with “Electronic records are maintained for the duration of an operation period then are automatically moved to inactive files. Inactive files are deleted after 30 days by the Air Force Personnel Center, Air and Space Expeditionary Force Operations. Paper records are destroyed by tearing into pieces, shredding, pulping, macerating or burning.”

System manager(s) and address:

Delete entry and replace with “Program Manager (PM), Business and Enterprise Systems, 200 East Moore Drive, Building 856, Maxwell AFB, Gunter Annex, Montgomery, AL 36114-3004.”

Notification procedure:

Delete entry and replace with “Individuals seeking to determine whether this system of records contains information on themselves should address inquiries to the PM, Business and Enterprise Systems, Decision Support Branch, 200 East Moore Drive, Building 856, Maxwell AFB, Gunter Annex, Montgomery, AL 36114-3004.

For verification purposes, individual should provide their full name, SSN and/or DoD ID Number, current mailing address, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address inquiries to the PM, Business and Enterprise Systems, 200 East Moore Drive, Decision Support Branch, Building 856, Maxwell AFB, Gunter Annex, Montgomery, AL 36114-3004.

For verification purposes, individual should provide their full name, SSN and/or DoD ID Number, current mailing address, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

Record source categories:

Delete entry and replace with “Information obtained from automated external system interfaces. The interfaces are the Air Force Logistics Module, Air Force Military Personnel Data System, Air Force Civilian Personnel Data System, Air Force Personnel Center/Agile Force Accountability Scanner and the Joint Operational Planning and Execution System.”

* * * * *

[FR Doc. 2013-05032 Filed 3-4-13; 8:45 am]

BILLING CODE 5001-06-P